DEPARTMENT OF ENERGY

Federal Energy Regulatory Commission

[Docket No. CP00-169-000]

Natural Gas Pipeline Company of America and Koch Gateway Pipeline Company; Notice of Joint Application

April 21, 2000.

Take notice that on April 5, 2000, Natural Gas Pipeline Company of America (Natural), 747 East 22nd Street, Lombard, Illinois 60148, and Koch Gateway Pipeline Company (Koch), 20 East Greenway Plaza, 5th Floor, Houston, Texas 77046, filed in Docket No. CP00-169-000 a joint abbreviated application pursuant to Section 7(b) of the Natural Gas Act (NGA), as amended, and Sections 157.7 and 157.18 of the Commission's regulations thereunder, requesting permission and approval for Natural and Koch to abandon the following exchange service agreements, all of which are more fully set forth in the application, which is on file with the Commission and open to public inspection:

(1) An exchange service jointly authorized in Docket No. CP67-315 and performed under Natural's Rate Schedule X-16 and Koch's Rate Schedule X-22;

(2) An exchange service authorized in Natural's Docket No. CP71-200 and Koch's Docket No. CP71-201 and performed under Natural's Rate Schedule X-29 and Koch's Rate Schedule X-41;

(3) An exchange service jointly authorized in Docket No. CP77-121 and performed under Natural's Rate Schedule X-79 and Koch's Rate Schedule X-83;

(4) An exchange service jointly authorized in Docket No. CP77-226 and performed under Natural's Rate Schedule X-81 and Koch's Rate Schedule X-82; and

(5) An exchange service authorized in Natural's Docket No. CP77-641, as amended, and Koch's Docket CP78-23, as amended, and performed under Natural's Rate Schedule X-94 and Koch's Rate Schedule X-94

The application may be viewed on the web at www.ferc.fed.us/online/rims.htm. Call (202) 208-2222 for assistance.

Any questions regarding this application should be directed for Natural to James J. McElligott, Senior Vice President, 747 East 22nd Street, Lombard, Illinois 60148 at (630) 691-3525, J. Curtis Moffatt, Esq., Van Ness Feldman, P.C., 1050 Thomas Jefferson Street, NW., Washington, DC 20007-3877, or Philip R. Telleen, Esq., Attorney for Natural, 747 East 22nd Street, Lombard, Illinois 60148 at (630) 691-3749. For Koch, Kyle Stehens, Director of Certificates, P.O. Box 1478 Houston, Texas 77251-1478 at (713) 544-7309 or Michael E. McMahon, Attorney for Koch, at (713) 544-4796.

Any person desiring to be heard or to make any protest with reference to said application should on or before May 12, 2000, file with the Federal Energy Regulatory Commission (888 First Street, NE., Washington, DC 20426) a motion to intervene or a protest in accordance with the requirements of the Commission's Rules of Practice and Procedure (18 CFR 385.211) and the Regulations under the Natural Gas Act (18 CFR 157.10). All protests filed with the Commission will be considered by it in determining the appropriate action to be taken but will not serve to make the protestants parties to the proceeding. Any person wishing to become a party to a proceeding or to participate as a party in any hearing therein must file a motion to intervene in accordance with the Commission's Rules.

Take further notice that, pursuant to the authority contained in and subject to the jurisdiction conferred upon the Federal Energy Regulatory Commission by Sections 7 and 15 of the Natural Gas Act and the Commission's Rules of Practice and Procedure, a hearing will be held without further notice before the Commission or its designee on this application if no motion to intervene if filed within the time required herein, if the Commission on its review of the matter finds that permission and approval for the proposed abandonment are required by the public convenience and necessity. If a motion for leave to intervene is timely filed, or if the Commission on its own motion believes that a formal hearing is required, further notice of such hearing will be duly given.

Under the procedure herein provided for, unless otherwise advised, it will be unnecessary for Natural and Koch to appear to be represented at the hearing.

David P. Boergers,
Secretary.

[FR Doc. 00-10467 Filed 4-26-00; 8:45 am]

BILLING CODE 6717-01-M